DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the program), as required by the Public Health Service (PHS) Act, as amended. While the Secretary of HHS is named as the respondent in all proceedings brought by the filing of petitions for compensation under the program, the United States Court of Federal Claims is charged by statute with responsibility for considering and acting upon the petitions.

FOR FURTHER INFORMATION CONTACT: For information about requirements for filing petitions and the program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, MD 20857; (301) 443-6593, or visit our website at: http://www.hrsa.gov/vaccinecompensation/index.html.

SUPPLEMENTARY INFORMATION: The program provides a system of no-fault compensation for certain individuals who have been injured by specified childhood vaccines. Subtitle 2 of Title XXI of the PHS Act, 42 U.S.C. 300aa-10 et seq., provides that those seeking compensation are to file a petition with the United States Court of Federal Claims and to serve a copy of the petition on the Secretary of HHS, who is named as the respondent in each proceeding. The Secretary has delegated this responsibility under the program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the table) set forth at 42 CFR 100.3. This table lists for each covered childhood vaccine the conditions that may lead to compensation and, for each condition, the time period for occurrence of the first symptom or manifestation of onset or of significant aggravation after vaccine administration. Compensation may also be awarded for conditions not listed in the Table and for conditions that are manifested outside the time periods specified in the table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on March 1, 2018, through March 31, 2018. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Healthcare Systems Bureau, 5600 Fishers Lane, 08N146B, Rockville, MD 20857. The Court's caption (Petitioner's Name v. Secretary of HHS) and the docket number assigned to the petition should be used as the caption for the written submission. Chapter 35 of title 44, United States Code, related to paperwork reduction, does not apply to information required for purposes of carrying out the program.

Dated: April 20, 2018.
George Sigounas,
Administrator.

List of Petitions Filed

1. Gerald Kiel, Farmington Hills, Michigan, Court of Federal Claims No: 18-0314V

2. Jill Silver, Brighton, Michigan, Court of Federal Claims No: 18-0315V

3. Mark Kelner, Salisbury, North Carolina, Court of Federal Claims No: 18-0316V

4. Amy Morris, Drumright, Oklahoma, Court of Federal Claims No: 18-0317V

5. Marcie Unrue, Crown Point, Indiana, Court of Federal Claims No: 18-0323V

6. Lesa Myers, Philadelphia, Pennsylvania, Court of Federal Claims No: 18-0324V

7. Janie Miller, Upper Arlington, Ohio, Court of Federal Claims No: 18-0327V

8. Matthew Rhodes, Alexandria, Virginia, Court of Federal Claims No: 18-0329V

9. Debra L. Bevel on behalf of Michael S. Bevel, Tulsa, Oklahoma, Court of Federal Claims No: 18-0331V

10. Derek Clark, Lakewood, Ohio, Court of Federal Claims No: 18-0332V

11. John Morgan, Phoenix, Arizona, Court of Federal Claims No: 18-0336V

12. Ronni Cook, Chambersburg, Pennsylvania, Court of Federal Claims No: 18-0337V

13. Kim Duguay, Lewiston, Maine, Court of Federal Claims No: 18-0340V

14. Kathleen Gullo, Scotts Valley, Arizona, Court of Federal Claims No: 18-0350V

15. Tamara Kuypers, Burlington, Vermont, Court of Federal Claims No: 18-0351V

16. Clayton T. Coleman, Novi, Michigan, Court of Federal Claims No: 18-0352V

17. Brianna Rich and Jeffrey Rich on behalf of S.G.R., Albuquerque, New Mexico, Court of Federal Claims No: 18-0353V

18. Cheryl Doster-Anderson, Orlando, Florida, Court of Federal Claims No: 18-0354V

19. Desirea Tyler, Fort Wayne, Indiana, Court of Federal Claims No: 18-0355V

20. Alicea Armstrong on behalf of Kenneth Armstrong, Deceased, Baltimore, Maryland, Court of Federal Claims No: 18-0356V

21. Youhong Lu, Santa Clara, California, Court of Federal Claims No: 18-0358V

22. Michael Bull, Kansas City, Kansas, Court of Federal Claims No: 18-0361V

23. Steven Fletcher, Boston, Massachusetts, Court of Federal Claims No: 18-0362V

24. Laura Johnson, Grand Rapids, Michigan, Court of Federal Claims No: 18-0363V

25. Karen Cain, Madill, Oklahoma, Court of Federal Claims No: 18-0364V

26. Elmia Walker, Carteret, New Jersey, Court of Federal Claims No: 18-0366V

27. Yeshi Fesaha Mengistu, North Bend, Washington, Court of Federal Claims No: 18-0368V

28. Karen Booth on behalf of J.B., Towson, Maryland, Court of Federal Claims No: 18-0372V

29. Kari Smith, Junction City, Oregon, Court of Federal Claims No: 18-0374V

30. Christa Jean Bingham, Des Moines, Washington, Court of Federal Claims No: 18-0376V

31. Jayne Purdom, El Dorado Springs, Missouri, Court of Federal Claims No: 18-0377V

32. Clemey Robinson, Chicago, Illinois, Court of Federal Claims No: 18-0378V

33. Robert Folino, Saugus, Massachusetts, Court of Federal Claims No: 18-0380V

34. Julia Wells, Deltona, Florida, Court of Federal Claims No: 18-0381V

35. Clifton E. Carlton, Sr., Mankato, Minnesota, Court of Federal Claims No: 18-0384V

36. Patricia Garcia, Phoenix, Arizona, Court of Federal Claims No: 18-0385V

37. William Morrison, Sarasota, Florida, Court of Federal Claims No: 18-0386V

38. Ronnie A Newcomer, Clarksville, Tennessee, Court of Federal Claims No: 18-0388V

39. Gerald Gordon, Phoenix, Arizona, Court of Federal Claims No: 18-0390V

40. Beverly Blad, Penn Yan, New York, Court of Federal Claims No: 18-0391V

41. Irene Russano, Waldwick, New Jersey, Court of Federal Claims No: 18-0392V

42. Jay LaMont, Logan, Utah, Court of Federal Claims No: 18-0394V

43. Sabrina Chappell-Strickland, Morrisville, North Carolina, Court of Federal Claims No: 18-0396V

44. Raymond Markarian, Santa Clarita, California, Court of Federal Claims No: 18-0397V

45. Nancy Brock, Sicklerville, New Jersey, Court of Federal Claims No: 18-0399V

46. Argelio Garcia, North Bend, Washington, Court of Federal Claims No: 18-0401V

47. Jo Ann Gilbert, Pennsville, New Jersey, Court of Federal Claims No: 18-0402V

48. Travis Eason, Montgomery, Alabama, Court of Federal Claims No: 18-0406V

49. Sean Kaplan, Chicago, Illinois, Court of Federal Claims No: 18-0407V

50. Amarachi Grace Otuokere, Austin, Texas, Court of Federal Claims No: 18-0409V

51. Shelle Johnson, Chatfield, Minnesota, Court of Federal Claims No: 18-0410V

52. Amber Etheridge, Tuscaloosa, Alabama, Court of Federal Claims No: 18-0411V

53. Mary E. Lyons, Seattle, Washington, Court of Federal Claims No: 18-0414V

54. Christian Park, Dothan, Alabama, Court of Federal Claims No: 18-0415V

55. Jennifer Talbot, South Weymouth, Massachusetts, Court of Federal Claims No: 18-0416V

56. Joy Houston, New Orleans, Louisiana, Court of Federal Claims No: 18-0420V

57. Kristian M. Ellingsen, Sterling, Virginia, Court of Federal Claims No: 18-0421V

58. Harry D. Tanner, Jr., Monroe, North Carolina, Court of Federal Claims No: 18-0422V

59. Philip Arcadipane, Brockton, Massachusetts, Court of Federal Claims No: 18-0423V

60. Keith McCarville, Newton, Iowa, Court of Federal Claims No: 18-0424V

61. Sharon Rons, Sioux Falls, South Dakota, Court of Federal Claims No: 18-0425V

62. Mary George, Boston, Massachusetts, Court of Federal Claims No: 18-0426V

63. Sandra Posh-Denzler, Stratford, Connecticut, Court of Federal Claims No: 18-0427V

64. Richard Chester, Minocqua, Wisconsin, Court of Federal Claims No: 18-0428V

65. Rebekah Morgan, Henderson, Nevada, Court of Federal Claims No: 18-0429V

66. Ruby Katherine Gordon on behalf of C.C., Kings Mountain, North Carolina, Court of Federal Claims No: 18-0431V

67. Dawn Eberhardt, Madison, Wisconsin, Court of Federal Claims No: 18-0432V

68. Rufus D. Parker, Shelby, North Carolina, Court of Federal Claims No: 18-0434V

69. Miranda Sellers, Washington, District of Columbia, Court of Federal Claims No: 18-0435V

70. John Bayles, Washington, District of Columbia, Court of Federal Claims No: 18-0436V

71. Louie Garcia, Washington, District of Columbia, Court of Federal Claims No: 18-0438V

72. Gail Linville, Washington, District of Columbia, Court of Federal Claims No: 18-0439V

73. A L V and M V on behalf of AA—VV, Park Ridge, Illinois, Court of Federal Claims No: 18-0440V

74. Tiffany Dagen, Middletown, Pennsylvania, Court of Federal Claims No: 18-0442V

75. Sharon Gregory, Durham, North Carolina, Court of Federal Claims No: 18-0444V

76. Denise Bigda, Boston, Massachusetts, Court of Federal Claims No: 18-0445V

77. Virginia Wilt, Norristown, Pennsylvania, Court of Federal Claims No: 18-0446V

78. Spencer Vick, Fayetteville, Georgia, Court of Federal Claims No: 18-0447V

79. Kevin Randall, Haddonfield, New Jersey, Court of Federal Claims No: 18-0448V

80. Karen Owens, Gainesville, Florida, Court of Federal Claims No: 18-0449V

81. Noah E. Musick, Greensboro, North Carolina, Court of Federal Claims No: 18-0451V

82. Zina Sanders, Tampa, Florida, Court of Federal Claims No: 18-0452V

83. Linda D. Kooker, Erie, Pennsylvania, Court of Federal Claims No: 18-0453V

84. Vincent Ricciardi, Deer Park, New York, Court of Federal Claims No: 18-0455V

85. Raine Learn, Corning, New York, Court of Federal Claims No: 18-0456V

86. Laura Russell, Dresher, Pennsylvania, Court of Federal Claims No: 18-0457V

87. Jodi Mickelson, Clarion, Iowa, Court of Federal Claims No: 18-0459V

88. Chelsea Engel on behalf of A.E., Dresher, Pennsylvania, Court of Federal Claims No: 18-0461V

89. Leonard E Smith, Greensboro, North Carolina, Court of Federal Claims No: 18-0462V

90. Charla Thornton, Washington, District of Columbia, Court of Federal Claims No: 18-0464V

91. Patricia Kelley, Washington, District of Columbia, Court of Federal Claims No: 18-0466V

92. Richard Proctor, Washington, District of Columbia, Court of Federal Claims No: 18-0468V

93. Barbara Plowman, Knoxville, Tennessee, Court of Federal Claims No: 18-0469V

94. Kelly Dean, Lancaster, Ohio, Court of Federal Claims No: 18-0470V

95. Rita Czyzewski, Berlin, New Jersey, Court of Federal Claims No: 18-0471V

96. Philip Yeakel, Washington, District of Columbia, Court of Federal Claims No: 18-0472V

97. Benjamin Taylor, Dresher, Pennsylvania, Court of Federal Claims No: 18-0473V

[FR Doc. 2018-08715 Filed 4-25-18; 8:45 am]

BILLING CODE 4165-15-P